Title 3—

The President

Proclamation 8025 of May 25, 2006

Black Music Month, 2006

By the President of the United States of America

A Proclamation

African-American musicians have added to the rich culture of our country and of countries around the world. During Black Music Month, we recognize the African-American artists who have enhanced our lives and created some of our Nation's most treasured art forms.

Throughout history, African-American artists have produced music with the power to change hearts and shape our national conscience. From gospel to blues, from jazz to rock and roll, the songs of America's black musicians have defined our times and enriched our culture. Performers such as Count Basie and Dizzy Gillespie and vocalists such as Lizzie Miles and gospel singer Mahalia Jackson have made their mark as great American musicians, strengthening our Nation's diversity and lifting the human spirit.

In 2005, Americans witnessed the power of music to help bring our country together. Following the devastation of the Gulf Coast by Hurricane Katrina, the musicians of that great region sought to preserve their unique musical style and culture and share it with the rest of the Nation. The soulful music of New Orleans and the Gulf Coast remains one of our national treasures, a symbol of creativity and hope.

Black Music Month recognizes some of the brightest lights of American creativity and honors the African-American men and women whose art entertains and inspires us. The incredible talents of black musicians continue to speak to every heart, reflecting the beauty and pride of our great Nation.

NOW, THEREFORE, I, GEORGE W. BUSH, President of the United States of America, by virtue of the authority vested in me by the Constitution and laws of the United States, do hereby proclaim June 2006 as Black Music Month. I encourage all Americans to learn more about the history of black music and to enjoy the great contributions of African-American musicians.

IN WITNESS WHEREOF, I have hereunto set my hand this twenty-fifth day of May, in the year of our Lord two thousand six, and of the Independence of the United States of America the two hundred and thirtieth.

B

[FR Doc. 06-5023

Filed 5-30-06; 8:45 am]

Billing code 3195-01-P